DEPARTMENT OF HEALTH AND HUMAN SERVICES

[Document Identifier: OS-4040-0001]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before October 17, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sagal Musa, sagal.musa@hhs.gov or call 202-578-5441. When submitting comments or requesting information, please include the document identifier 4040-0001-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collections: Application for Federal Assistance SF 424 R&R forms.

Type of Collection: Extension.

OMB No.: 4040-0001.

Abstract: The SF-424 Research and Related Forms provides the Federal grant-making agencies an alternative to the Standard Form 424 data set and form. Agencies may use the SF-424 R&R forms for grant programs not required to collect all the data that is required on the SF-424 core data set and form. This 4040-0001 collection encompasses 18 forms. Grants.gov seeks a three-year clearance of these collections.

Type of respondent: The SF-424 R&R family of forms are used by organizations to apply for Federal financial assistance in the form of grants. These forms are submitted to the Federal grant-making agencies for evaluation and review on an annual basis. This IC expires on November 30, 2025.

Annualized Burden Hour Table
Forms (if necessary) | Respondents (if necessary) | Number of respondents | Number of responses per respondents | Average burden per response (in hours) | Total burden hours
SF-424 R&R Multi-Project Cover | Grant Applicants | 1,236 | 1 | 1 | 1,236
SF424 (R&R) | Grant Applicants | 165,183 | 1 | 1 | 165,183
SBIR/STTR Information | Grant Applicants | 17,183 | 1 | 1 | 17,183
RR FedNonFed Budget | Grant Applicants | 3,456 | 1 | 1 | 3,456
Research and Related Senior/Key Person Profile (Expanded | Grant Applicants | 160,337 | 1 | 1 | 160,337
Research And Related Other Project Information | Grant Applicants | 150,662 | 1 | 1 | 150,662
Research &Related Budget | Grant Applicants | 104,432 | 1 | 1 | 104,432
Research & Related Subaward Budget (Total Fed + Non-Fed) Attachment(s) Form | Grant Applicants | 827 | 1 | 1 | 827
Research & Related Subaward Budget (Total Fed + Non-Fed) 5 YR 30 ATT | Grant Applicants | 303 | 1 | 1 | 303
Research & Related Senior/Key Person Profile | Grant Applicants | 265 | 1 | 1 | 265
Research & Related Personal Data | Grant Applicants | 24,012 | 1 | 1 | 24,012
Research & Related Multi-Project 10 Year Budget | Grant Applicants | 1,236 | 1 | 1 | 1,236
Research & Related Budget 10YR | Grant Applicants | 20,652 | 1 | 1 | 20,652
R&R Subaward Budget Attachment(s) Form 5 YR 30 ATT | Grant Applicants | 37,048 | 1 | 1 | 37,048
R&R Subaward Budget Attachment(s) Form 10 YR 30 ATT | Grant Applicants | 2,707 | 1 | 1 | 2,707
R&R Subaward Budget Attachment(s) Form 10 YR 10 ATT | Grant Applicants | 346 | 1 | 1 | 346
R&R Subaward Budget Attachment(s) Form | Grant Applicants | 3,138 | 1 | 1 | 3,138
R&R R Multi-Project Subaward Budget Attachment(s) Form 10 YR 30 ATT | Grant Applicants | 4,606 | 1 | 1 | 4,606
Total |  | 704,377 | 1 | 1 | 704,377

Catherine Howard,
Paperwork Reduction Act Reports Clearance Officer, Department of Health and Human Services, Office of the Secretary.

[FR Doc. 2025-17914 Filed 9-16-25; 8:45 am]

BILLING CODE 4151-AE-P